DEPARTMENT OF COMMERCE

Submission for OMB Review; Comment Request

The Department of Commerce will submit to the Office of Management and Budget (OMB) for clearance the following proposal for collection of information under the provisions of the Paperwork Reduction Act (44 U.S.C. chapter 35).

Agency: U.S. Census Bureau.

Title: Annual Retail Trade Survey.

OMB Control Number: 0607-0013.

Form Number(s): SA-44, SA-44A, SA-44C, SA-44E, SA-44N, SA-44S, SA-45, SA-45C, SA-721A, SA-721E, SA-722A and SA-722E.

Type of Request: Extension of a currently approved collection.

Burden Hours: 11,845.

Number of Respondents: 20,971.

Average Hours Per Response: 34 minutes.

Needs and Uses: The Annual Retail Trade Survey (ARTS) provides the only continuing official measure of annual total retail sales, e-commerce sales, end-of-year inventories, sales/inventory ratios, purchases, inventory valuation methods, gross margin, and end-of-year accounts receivables for retailers and annual sales and e-commerce sales for accommodation and food services firms in the United States.

The data collected in the ARTS provide a current statistical picture of the retail and food services and accommodations portions of consumer activity. Also, the estimates compiled from this survey provide valuable information for economic policy decisions and actions by government and are widely used by private businesses, trade organizations, professional associations, and others for market research and analysis. The sales and receipts data are used by the Bureau of Economic Analysis (BEA) in determining the consumption portion of the Gross Domestic Product (GDP).

The BEA is the primary Federal user of the data collected in the ARTS and the information collected is critical to the quality of several of BEA's key programs. The data on retail sales are used to prepare detailed annual personal consumption expenditures estimates; merchandise inventories, valuation methods and merchandise purchases are used to prepare annual estimates of change in the business inventory component of GDP. Sales, merchandise purchases, inventories, inventory valuation and sales tax data are used to prepare estimates of GDP by industry and to derive industry output for the input-output accounts.

Affected Public: Business or other for-profit organizations.

Frequency: Annually.

Respondent's Obligation: Mandatory.

Legal Authority: Title 13, United States Code, Sections 182, 224 and 225.

OMB Desk Officer: Brian Harris-Kojetin, (202) 395-7314.

Copies of the above information collection proposal can be obtained by calling or writing Diana Hynek, Departmental Paperwork Clearance Officer, (202) 482-0266, Department of Commerce, Room 6625, 14th and Constitution Avenue, NW., Washington, DC 20230 (or via the Internet at dhynek@doc.gov).

Written comments and recommendations for the proposed information collection should be sent within 30 days of publication of this notice to Brian Harris-Kojetin, OMB Desk Officer either by fax (202-395-7245) or e-mail (bharrisk@omb.eop.gov).

Dated: August 7, 2008.
Gwellnar Banks,
Management Analyst, Office of the Chief Information Officer.

[FR Doc. E8-18647 Filed 8-12-08; 8:45 am]

BILLING CODE 3510-07-P